DEPARTMENT OF AGRICULTURE

Forest Service

Notice of Availability (NOA) Record of Decision (ROD) for the Final Supplement to the 2004 Supplemental Environmental Impact Statement To Remove or Modify the Survey and Manage Mitigation Measure Standards and Guidelines

AGENCY: Forest Service, USDA.

ACTION: Notice of availability of record of decision.

SUMMARY: In accordance with the National Environmental Policy Act (NEPA, 42 U.S.C. 4321 et seq.) and the National Forest Management Act (NFMA, 16 U.S.C. 1600-1614 et seq.), the Forest Service announces the decision to amend selected portions of the 1994 Record of Decision for the Northwest Forest Plan. Specifically, the ROD amends 19 Land and Resource Management Plans for National Forests within the range of the northern spotted owl in western Washington and Oregon and northwestern California. The United States Department of the Interior, Bureau of Land Management (BLM), is expected to concurrently announce a similar decision amending their respective Resource Management Plans.

The Survey and Manage Mitigation Measure Standards and Guidelines added conservation measures for rare and little known species to BLM and Forest Service (Northwest Forest Plan) requirements for providing for late-successional and old-growth forest related species. These Standards and Guidelines were frustrating the Agencies' ability to meet the other resource management goals set forth in the Northwest Forest Plan (timber harvest, hazardous fuels treatment, ecosystem restoration). Although the Survey and Manage Standards and Guidelines are removed with this decision, conservation of rare and little known species will continue to be accomplished through the other elements of the Northwest Forest Plan and the Agency's Special Status Species Program. This ROD also complies with a Settlement Agreement between the Secretaries of Agriculture and the Interior and Douglas Timber Operators and American Forest Resource Council.

DATES: Effective Date: This decision is effective July 24, 2007.

ADDRESSES: The ROD is now available on the Internet at http://www.reo.gov/s-m2006. Requests to receive copies of the ROD should be sent to Carol Hughes, USDA Forest Service-NR, P.O. Box 3623, Portland, OR 97208-3623, or submit e-mail to ORSMSEIS@blm.gov. Printed copies will be available after August 10th at National Forest offices in western Washington and Oregon and northwestern California.

FOR FURTHER INFORMATION CONTACT: Alan Christensen, Group Leader, Wildlife, Fisheries, Watershed, Soils and Range, USDA Forest Service-NR, P.O. Box 3623, Portland, Oregon 97208; telephone (503) 808-2922.

SUPPLEMENTARY INFORMATION: In June 2007, the BLM and Forest Service (the Agencies) released a Final Supplement to the 2004 FSEIS to Remove or Modify the Survey and Manage Mitigation Measure Standards and Guidelines. The Final Supplement presented the entire 2004 analysis, updated for new information and supplemented to include:

—Responses to three deficiencies identified in August 2005, by the U.S. District Court of the Western District of Washington, and;

—An additional alternative to respond to implications of a November 2006, decision by the U.S. Court of Appeals for the Ninth Circuit relative to the red tree vole on the BLM's Cow Catcher and Cottonsnake Timber Sales in Oregon.

The analysis covered 337 species of fungi, bryophytes, lichens, mollusks, vascular plants, and vertebrates and 4 arthropod groups. The analysis showed, when compared to the No-Action Alternatives, 53 species would have insufficient habitat in all or a portion of their Northwest Forest Plan range to support stable populations. However, the analysis points out these species are generally either secure in other areas of their range, or State Heritage programs do not rate them imperiled enough to qualify for the two Agencies' Special Status Species Programs. The analysis also shows the selected alternative improves the Agencies' ability to achieve other Northwest Forest Plan objectives.

Readers should note this decision was signed by the Under Secretary of Agriculture for Natural Resources and the Environment. Therefore, no administrative review (“appeal”) through the Forest Service will be available on the Record of Decision under 36 CFR part 217.

Reference to previously published Federal Register documents: 71 FR 38601, July 7, 2006; 71 FR 38641, July 7, 2006; 72 FR 546, Jan. 5, 2007; 72 FR 31821, June 8, 2007; 72 FR 33737, June 19, 2007.

Dated: July 24, 2007.
Mark Rey,
Under Secretary, Natural Resources and Environment.

[FR Doc. E7-14665 Filed 7-26-07; 8:45 am]

BILLING CODE 3410-11-P